DEPARTMENT OF ENERGY

Federal Energy Regulatory Commission

[Docket No. RP01-216-000]

Southern Natural Gas Company; Notice of Revised Tariff Sheets

February 6, 2001.

Take notice that on January 29, 2001, Southern Natural Gas Company (Southern) tendered for filing as part of its FERC Gas Tariff, Seventh Revised Volume No. 1, the following revised sheets, to be effective March 1, 2001:

Second Revised Sheet No. 46

Third Revised Sheet No. 134

Third Revised Sheet No. 98A

Third Revised Sheet No. 135

Original Sheet No. 98B

Original Sheet No. 135A

Fourth Revised Sheet No. 132

Seventh Revised Sheet No. 136

Sixth Revised Sheet No. 133

First Revised Sheet No. 164

Southern proposes to revise its tariff to remove the historical restriction on its Rate Schedule FT-NN (Firm Transportation—No Notice) service so that any customer can contract for no-notice service if it is available either from Southern or an FT-NN contract holder. Of particular importance is the fact that this will allow shippers to acquire FT-NN service through capacity release and utilize it on a no-notice basis pursuant to the terms of Rate Schedule FT-NN instead of having to nominate the service.

In order to facilitate this change, Southern also proposes to revise its allocation procedures and offer a fifth predetermined allocation (PDA) method called Operator Provided Value (OPV). The OPV allocation method is a recognized GISB standard that is optional for pipelines to offer.

Southern states that copies of this filing have been served on all customers and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a part must file a motion to intervene. Copies of this filing are on file with the Commission and are available for public inspection in the Public Reference Room. This filing may be viewed on the web at http:­//www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-3427 Filed 2-9-01; 8:45 am]

BILLING CODE 6717-01-M